COMMITTEE FOR PURCHASE FROM PEOPLE WHO ARE BLIND OR SEVERELY DISABLED

Procurement List; Addition and Deletions

AGENCY: Committee for Purchase From People Who Are Blind or Severely Disabled.

ACTION: Addition to and deletions from the Procurement List.

SUMMARY: This action adds a product to the Procurement List that will be furnished by a nonprofit agency employing persons who are blind or have other severe disabilities, and deletes products from the Procurement List previously furnished by such agencies.

DATES: Date added to and deleted from the Procurement List: December 2, 2018.

ADDRESSES: Committee for Purchase From People Who Are Blind or Severely Disabled, 1401 S Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Addition

On 5/25/2018 (83 FR 102), the Committee for Purchase From People Who Are Blind or Severely Disabled published notice of proposed addition to the Procurement List.

After consideration of the material presented to it concerning capability of a qualified nonprofit agency to provide the product and impact of the addition on the current or most recent contractors, the Committee has determined that the product listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will furnish the product to the Government.

2. The action will result in authorizing a small entity to furnish the product to the Government.

3. There are no known regulatory alternatives which would accomplish the objectives of the Javits-Wagner-O'Day Act (41 U.S.C. 8501-8506) in connection with the product proposed for addition to the Procurement List.

End of Certification

Accordingly, the following product is added to the Procurement List:

Product

NSN(s)—Product Name(s): 7350-01-332-2111—Bowl, Paper, Round, 12 oz., Natural

Mandatory for: Total Government Requirement

Mandatory Source of Supply: The Lighthouse for the Blind in New Orleans, Inc., New Orleans, LA

Contracting Activity: General Services Administration, Fort Worth, TX

Distribution: A-List

Deletions

On 9/28/2018 (83 FR 189), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s): MR 830—Spinner, Salad

Mandatory Source of Supply: Cincinnati Association for the Blind, Cincinnati, OH

Contracting Activity: Defense Commissary Agency

NSN(s)—Product Name(s): MR 467—Grocery Shopping Tote Bag, Laminated, Easter, Orange Eggs, Small

Mandatory Source of Supply: Industries for the Blind and Visually Impaired, Inc., West Allis, WI

Contracting Activity: Defense Commissary Agency

NSN(s)—Product Name(s): 8540-00-NIB-0040—Towel, Paper, C-Fold, 100% PCRM, 4″ x 10¼″, White, 7 Bundles

Mandatory Source of Supply: LC Industries, Inc., Durham, NC

Contracting Activity: GSA/FAS Admin Svcs Acquisition BR(2), New York, NY

NSN(s)—Product Name(s): 7530-00-NIB-0556—Folder, Classification

7530-00-NIB-0552—Folder, Classification

Mandatory Source of Supply: Clovernook Center for the Blind and Visually Impaired, Cincinnati, OH

Contracting Activity: GSA/FAS Admin Svcs Acquisition BR(2), New York, NY

NSN(s)—Product Name(s): 7520-01-643-8193—Retractable, Ballpoint Pen and Stylus, Medium, Black Ink

Mandatory Source of Supply: Industries of the Blind, Inc., Greensboro, NC

Contracting Activity: GSA/FAS Admin Svcs Acquisition BR(2), New York, NY

NSN(s)—Product Name(s):

7930-00-NIB-0127—Cleaner, Commercial Vehicle, Skilcraft Savvy TR-43, Gallon

7930-00-NIB-0142—Cleaner, Commercial Vehicle, Skilcraft Savvy TR-43, 5 Gallons

7930-00-NIB-0143—Cleaner, Commercial Vehicle, Skilcraft Savvy TR-43, 55 Gallons

Mandatory Source of Supply: VisionCorps, Lancaster, PA

Contracting Activity: GSA/FSS Greater Southwest Acquisiti, Fort Worth, TX

NSN(s)—Product Name(s):

7110-01-622-1763—White Board, Dry Erase, Magnetic, Work/Plan Kit, Aluminum Frame, 6′ x 4′

7110-01-622-1764—White Board, Dry Erase, Magnetic, Work/Plan Kit, Aluminum Frame, 4′ x 3′

Mandatory Source of Supply: The Lighthouse for the Blind, Inc. (Seattle Lighthouse), Seattle, WA

Contracting Activity: GSA/FAS Furniture Systems MGT DIV, Philadelphia, PA

Michael R. Jurkowski,
Business Management Specialist, Business Operations.

[FR Doc. 2018-24016 Filed 11-1-18; 8:45 am]

BILLING CODE 6353-01-P